DEPARTMENT OF COMMERCE

International Trade Administration

[A-570-053]

Certain Aluminum Foil From the People's Republic of China: Amended Final Determination of Sales at Less Than Fair Value and Antidumping Duty Order

AGENCY: Enforcement and Compliance, International Trade Administration, Department of Commerce.

SUMMARY: Based on affirmative final determinations by the Department of Commerce (Commerce) and the International Trade Commission (the ITC), Commerce is issuing an antidumping duty (AD) order on certain aluminum foil from the People's Republic of China (China). In addition, Commerce is amending its final determination of sales at less than fair value (LTFV) from China as a result of a ministerial error.

DATES: Applicable April 19, 2018.

FOR FURTHER INFORMATION CONTACT: Tom Bellhouse or Michael J. Heaney, AD/CVD Operations, Enforcement and Compliance, International Trade Administration, U.S. Department of Commerce, 1401 Constitution Avenue NW, Washington, DC 20230; telephone: (202) 482-2057 or (202) 482-4475, respectively.

SUPPLEMENTARY INFORMATION:

Period of Investigation: The period of investigation (POI) is July 1, 2016, through December 31, 2016.

Background

On March 5, 2018, Commerce published in the Federal Register the Final Determination that aluminum foil from China is being, or is likely to be, sold in the United States at LTFV, as provided in section 735 of the Tariff Act of 1930, as amended (Act).¹ On March 12, 2018, Hangzhou Dingsheng Import & Export Co. Ltd., Jiangsu Dingsheng New Materials Joint-Stock Co., Ltd., Hangzhou Teemful Aluminum Co., Ltd., Hangzhou Five Star Aluminum Co., Ltd., Dingsheng Aluminum Industries (Hong Kong) Trading Co. Ltd., Inner Mongolia Liansheng New Energy Material Joint-Stock Co., Ltd. and Walson (HK) Trading Co., Ltd. (collectively, Dingsheng), and Jiangsu Zhongji Lamination Materials Co., (HK) Ltd., Jiangsu Zhongji Lamination Materials Stock Co., Ltd., and Jiangsu Huafeng Aluminium Industry Co., Ltd. (collectively, Zhongji) submitted ministerial error allegations concerning the Final Determination.² On March 19, 2018, the Aluminum Association Trade Enforcement Working Group submitted comments to address these allegations.³ On April 9, 2018, the ITC notified Commerce of its affirmative determination that an industry in the United States is materially injured within the meaning of section 735(b)(1)(A)(i) of the Act by reason of LTFV imports of aluminum foil from China.⁴

¹ See Certain Aluminum Foil from the People's Republic of China: Final Determination of Sales at Less Than Fair Value, 83 FR 9282 (March 5, 2018) (Final Determination), and accompanying Issues and Decision Memorandum.

² See Letter, “Dingsheng Final Determination Ministerial Error Comments in the Antidumping Duty Investigation of Aluminum Foil from the People's Republic of China,” dated March 12, 2018; see also Letter, “Certain Aluminum Foil from the People's Republic of China: Ministerial Memorandum Comments,” dated March 12, 2018.

³ See Letter, “Certain Aluminum Foil from the People's Republic of China—Petitioners' Rebuttal of Jiangsu Zhongji's Clerical Error Allegation,” dated March 19, 2018.

⁴ See Letter from the ITC, dated April 9, 2018; see also Aluminum Foil from China (Investigation Nos. 701-TA-570 and 731-TA-1346 (Final), USITC Publication 4771, April 2018).

Scope of the Order

The merchandise covered by this order is aluminum foil from China. For a complete description of the scope of the order, see the Appendix to this notice.

Amendment to the Final Determination

After considering parties' comments and reviewing the record, pursuant to section 735(e) of the Act and 19 CFR 351.224(e) and (f), Commerce is amending the Final Determination to reflect the correction of a ministerial error it made in calculating the final margin assigned to Dingsheng.⁵ In addition, because the rates for the companies receiving a separate rate and the rate of the China-wide entity are based on the margins for Dingsheng and Zhongji, we are also revising these rates.⁶

⁵ For a detailed discussion of the ministerial error allegations, see Memorandum, “Antidumping Duty Investigation of Certain Aluminum Foil from People's Republic of China: Ministerial Error Memorandum,” dated concurrently with this notice (Amended Final Memorandum).

⁶ Id.

As a result of this amended final determination, we have revised the estimated weighted average dumping margins as follows:

Producer | Exporter | Weighted- average margin (percent) | Cash deposit adjusted for subsidy offset (percent)
Hangzhou Dingsheng Import & Export Co. Ltd./Jiangsu Dingsheng New Materials Joint-Stock Co., Ltd./Hangzhou Teemful Aluminum Co., Ltd./Hangzhou Five Star Aluminum Co., Ltd./Dingsheng Aluminum Industries (Hong Kong) Trading Co. Ltd./Walson (HK) Trading Co., Ltd./Inner Mongolia Liansheng New Energy Material Joint-Stock Co., Ltd | Hangzhou Dingsheng Import & Export Co. Ltd./Jiangsu Dingsheng New Materials Joint-Stock Co., Ltd./Hangzhou Teemful Aluminum Co., Ltd./Hangzhou Five Star Aluminum Co., Ltd./Dingsheng Aluminum Industries (Hong Kong) Trading Co. Ltd./Walson (HK) Trading Co., Ltd./Inner Mongolia Liansheng New Energy Material Joint-Stock Co., Ltd | 105.80 | 94.44
Jiangsu Zhongji Lamination Materials Stock Co., Ltd/Jiangsu Zhongji Lamination Materials Co., Ltd./Jiangsu Huafeng Aluminium Industry Co., Ltd | Jiangsu Zhongji Lamination Materials Co., (HK) Ltd | 48.64 | 37.99
Jiangsu Alcha Aluminum Co., Ltd | Alcha International Holdings Limited | 84.76 | 73.66
Baotou Alcha Aluminum Co., Ltd | Alcha International Holdings Limited | 84.76 | 73.66
Jiangyin Dolphin Pack Ltd. Co | Jiangyin Dolphin Pack Ltd. Co | 84.76 | 73.66
Granges Aluminum (Shanghai) Co., Ltd | Granges Aluminum (Shanghai) Co., Ltd | 84.76 | 73.66
Huafon Nikkei Aluminium Corporation | Huafon Nikkei Aluminium Corporation | 84.76 | 73.66
Suntown Technology Group Limited | Hunan Suntown Marketing Limited | 84.76 | 73.66
Luoyang Longding Aluminium Industries Co., Ltd | Luoyang Longding Aluminium Industries Co., Ltd | 84.76 | 73.66
Shandong Yuanrui Metal Material Co., Ltd | Shandong Yuanrui Metal Material Co., Ltd | 84.76 | 73.66
Suntown Technology Group Limited | SNTO International Trade Limited | 84.76 | 73.66
North China Aluminum Co., Ltd., Hunan Suntown Marketing Limited, and Guangxi Baise Xinghe Aluminum Industry Co., Ltd | Suzhou Manakin Aluminum Processing Technology Co., Ltd | 84.76 | 73.66
Xiamen Xiashun Aluminium Foil Co. Ltd | Xiamen Xiashun Aluminium Foil Co. Ltd | 84.76 | 73.66
Yantai Donghai Aluminum Foil Co., Ltd | Yantai Jintai International Trade Co., Ltd | 84.76 | 73.66
Yinbang Clad Material Co., Ltd | Yinbang Clad Material Co., Ltd | 84.76 | 73.66
Zhejiang Zhongjin Aluminum Industry Co., Ltd | Zhejiang Zhongjin Aluminum Industry Co., Ltd | 84.76 | 73.66
CHINA-WIDE ENTITY | 105.80 | 95.15

Antidumping Duty Order

In accordance with section 735(d) of the Act, the ITC has notified Commerce of its final determination in this investigation, in which it found that an industry in the United States is materially injured within the meaning of section 735(b)(1)(A)(i) of the Act. Therefore, in accordance with section 735(c)(2) of the Act, we are publishing this AD order.

Because the ITC determined that imports of aluminum foil from China are materially injuring a U.S. industry, unliquidated entries of such merchandise from China entered or withdrawn from warehouse for consumption, are subject to the assessment of antidumping duties. In accordance with section 736(a)(1) of the Act, Commerce will direct United States Customs and Border Protection (CBP) to assess, upon further instruction by Commerce, antidumping duties equal to the amount by which the normal value of the merchandise exceeds the export price (or constructed export price) of the merchandise, for all relevant entries of aluminum foil from China. Antidumping duties will be assessed on unliquidated entries of aluminum foil from China entered, or withdrawn from warehouse, for consumption on or after November 2, 2017, the date of publication of the Preliminary Determination.⁷

⁷ See Antidumping Duty Investigation of Certain Aluminum Foil from the People's Republic of China: Affirmative Preliminary Determination of Sales at Less-Than-Fair Value and Postponement of Final Determination, 82 FR 50858 (November 2, 2017) (Preliminary Determination), and accompanying Preliminary Decision Memorandum.

Suspension of Liquidation

In accordance with section 735(c)(1)(B) of the Act, we will instruct CBP to continue to suspend liquidation on all relevant entries of aluminum foil from China. These instructions suspending liquidation will remain in effect until further notice.

Pursuant to section 735(c)(1)(B)(ii) of the Act, Commerce will instruct CBP to require a cash deposit equal to the weighted-average amount by which normal value (NV) exceeds U.S. price as follows: (1) The cash deposit rate for the exporter/producer combination listed in the table above will be the rate identified for that combination in the table; (2) for all combinations of Chinese exporters/producers of subject merchandise that have not received their own separate rate above, the cash deposit rate will be the cash deposit rate established for the China-wide entity; and (3) for all non-Chinese exporters of the subject merchandise which have not received their own separate rate above, the cash deposit rate will be the cash deposit rate applicable to the Chinese exporter/producer combination that supplied that non-Chinese exporter.

We normally adjust AD cash deposit rates by the amount of export subsidies, where appropriate. In the companion countervailing duty (CVD) investigation, we have found that both Dingsheng and Zhongji received export subsidies.⁸ With respect to Dingsheng and Zhongji, because their CVD rates in the companion investigation included an amount for export subsidies, an offset of 11.36 percent and 10.65 percent, respectively, will be made to their cash deposit rates. With respect to the separate-rate companies, we find that an export subsidy adjustment of 11.10 percent to the cash deposit rate is warranted because this amount represents a weighted-average of the subsidy offsets received by Dingsheng and Zhongji. For the China-wide entity, which continues to receive a rate based on adverse facts available (AFA) in this amended final determination, as an extension of the adverse inference found necessary pursuant to section 776(b) of the Act, Commerce has adjusted the China-wide entity's AD cash deposit rate by the lowest export subsidy rate determined for any party in the companion CVD proceeding, which was 10.65 percent.

⁸ See Countervailing Duty Investigation of Certain Aluminum Foil from the People's Republic of China: Final Affirmative Determination, 83 FR 9274 (March 5, 2018).

Pursuant to section 777A(f) of the Act, we normally adjust AD cash deposit rates for estimated domestic subsidy pass-through, where appropriate. However, in this case there is no basis to grant a domestic subsidy pass-through adjustment.⁹

⁹ See Final Determination and accompanying Issues and Decision Memorandum.

Provisional Measures

Section 733(d) of the Act states that instructions issued pursuant to an affirmative preliminary determination may not remain in effect for more than four months except where exporters representing a significant proportion of exports of the subject merchandise request Commerce to extend that four-month period to no more than six months.

At the request of exporters that account for a significant proportion of aluminum foil from China, we extended the four-month period to no more than six months in this case.¹⁰ In the underlying investigation, Commerce published the Preliminary Determination on November 2, 2017. Therefore, the extended period beginning on the date of publication of the Preliminary Determination ends May 2, 2018. Furthermore, section 737(b) of the Act states that definitive duties are to begin on the date of publication of the ITC's final injury determination.

¹⁰ See Preliminary Determination and accompanying Preliminary Decision Memorandum.

Therefore, because the publication of the ITC's final injury determination occurred before the expiration of the extended provisional measures, suspension of liquidation continues through the issuance of the AD order.

Notification to Interested Parties

This notice constitutes the AD order with respect to aluminum foil from China pursuant to section 736(a) of the Act. Interested parties can find a list of AD orders currently in effect at http://enforcement.trade.gov/stats/iastats1.html.

This order and amended final determination are published in accordance with sections 736(a) and 735(e) of the Act and 19 CFR 351.211 and 351.224(e).

Dated: April 12, 2018.
Gary Taverman,
Deputy Assistant Secretary for Antidumping and Countervailing Duty Operations, performing the non-exclusive functions and duties of the Assistant Secretary for Enforcement and Compliance.

Appendix—Scope of the Order

The merchandise covered by this order is aluminum foil having a thickness of 0.2 mm or less, in reels exceeding 25 pounds, regardless of width. Aluminum foil is made from an aluminum alloy that contains more than 92 percent aluminum. Aluminum foil may be made to ASTM specification ASTM B479, but can also be made to other specifications. Regardless of specification, however, all aluminum foil meeting the scope description is included in the scope, including aluminum foil to which lubricant has been applied to one or both sides of the foil.

Excluded from the scope of this order is aluminum foil that is backed with paper, paperboard, plastics, or similar backing materials on one side or both sides of the aluminum foil, as well as etched capacitor foil and aluminum foil that is cut to shape.

Where the nominal and actual measurements vary, a product is within the scope if application of either the nominal or actual measurement would place it within the scope based on the definitions set forth above. The products under the order are currently classifiable under Harmonized Tariff Schedule of the United States (HTSUS) subheadings 7607.11.3000, 7607.11.6000, 7607.11.9030, 7607.11.9060, 7607.11.9090, and 7607.19.6000. Further, merchandise that falls within the scope of this proceeding may also be entered into the United States under HTSUS subheadings 7606.11.3060, 7606.11.6000, 7606.12.3045, 7606.12.3055, 7606.12.3090, 7606.12.6000, 7606.91.3090, 7606.91.6080, 7606.92.3090, and 7606.92.6080.

Although the HTSUS subheadings are provided for convenience and customs purposes, the written description of the scope of this order is dispositive.

[FR Doc. 2018-08115 Filed 4-18-18; 8:45 am]

BILLING CODE 3510-DS-P